DEPARTMENT OF AGRICULTURE

Forest Service

Olympia National Forest, Jefferson County, Oregon Dosewallips Road Washout Project

AGENCY: Forest Service, USDA.

ACTION: Notice of intent to prepare an environmental impact statement.

SUMMARY: The USDA, Forest Service, will prepare an environmental impact statement (EIS) in accordance with Section 102(2)(C) of the National Environmental Policy Act of 1969 (Pub. L. 91-190) to document the analysis and disclose the environmental effects of the proposed action to reestablish road access provided by Forest Service Road (FSR) 2610 and Park Service Dosewallips Road to National Forest and National Park recreational facilities. The proposed action is to rebuild FSR 2610 through a washout area using a low-water crossing design and to repair damage to the Park's Dosewallips Road, including the portion of road in the vicinity of the Dosewallips River Falls.

DATES: Written comments concerning the scope of the analysis must be postmarked within 30 days following publication of this notice. The draft environmental impact statement is expected in February 2006 and the final environmental impact statement is expected in November 2006.

ADDRESSES: Send written comments to the Responsible Official, Dale Hom, Forest Supervisor, Olympic National Forest, 1835 Black Lake Blvd. SW., Suite A, Olympia, WA, 98512. Send electronic comments to comments-pacificnorthwest-olympic@fs.fed.us. Send National Park Service specific comments to William G. Laitner, Park Superintendent, Olympic National Park, 600 East Park Ave., Port Angeles, WA, 98362; or olym-ea@mps.gov.

All comments received will become part of the public record and copies of comments, including names and home addresses of respondents, may be released for public inspection. Individual respondents may request that their home addresses be withheld from the public record, which will be honored to the extent allowable by law. Request to withhold names and/or addresses must be stated prominently at the beginning of the comments. Anonymous comments will not be considered. Submissions from organizations or businesses, and from individuals identifying themselves as representatives or officials of organizations or businesses, will be made available for public inspection in their entirety.

FOR FURTHER INFORMATION CONTACT: Tim Davis, Project Team Leader, Olympic National Forest, 1835 Black Lake Blvd, SW., Suite A, Olympia, WA, 98512; phone (360) 956-2375; or e-mail tedavis@fs.fed.us. For information on the National Park Service component of the project, contact Nancy Hendricks, Environmental Protection Specialist, 600 East Park Ave., Port Angeles, WA, 98362; phone (360) 565-3008; or e-mail olym-ea@nps.gov.

SUPPLEMENTARY INFORMATION: During a storm in January 2002 approximately 300 feet of FSR 2610 washed out, cutting off road access to approximately 5 miles of road beyond the washout. This road had provided access to the Forest's Elkhorn Campground, and along with the Park's Dosewallips Road had provided access to the Olympic National Park Dosewallips Ranger Station and Campground, and several trailheads. Subsequent to the FSR 2610 washout, road damage occurred on the Park's Dosewallips Road including damage in the vicinity of the Dosewallips Falls. In response to the washout on FSR 2610 the Forest Service prepared an environmental assessment (EA) in May 2002, and based on the need for additional information revised the EA in February 2003. A decision to reestablish road access via an upslope reroute was made in March 2004, and it was subsequently decided to withdraw the decision and complete a more detailed analysis.

Although previous NEPA analyses were completed in EAs, a recent preliminary effects analysis indicated that there may be significant effects on the environment (related to threatened and endangered species and habitat) which requires the completion of an EIS.

Purpose and Need for Action

The Olympic National Forest Land and Resource Management Plan (Forest Plan) established certain management area prescriptions and corresponding goals and desired conditions for National Forest System Land along FSR 2610 in and beyond the washout area. Two of these management area prescriptions [Undeveloped Recreation (Motorized) and Developed Recreation Sites and Administrative Sites] are dependent on the road access provided by FSR 2610. Additionally, road access to Forest Service Elkhorn Campground provided by FSR 2610 helps achieve two Forest level recreation goals and objectives. These are Forest Management Goal for recreation (number 5), “Provide safe and well-maintained facilities at developed recreation sites that offer a range of opportunities and experiences. Assure that facilities are readily accessible to a diverse public, including the physically impaired”; ;and Forest Management Objective for recreation at developed sites (objective 4.a) as this is a site identified in the Forest Plan for reconstruction/expansion to meet the projected increase in demand for developed campgrounds.

The Olympic National Park considers the road access provided by FSR 2610 and Dosewallips Road an important part of its overall management strategy as they provide one of two motorized vehicle access points on the east side of the park. The roads provide access for a more primitive recreational experience for Olympic National Park visitors than those found at the more developed sites with road access within the park, and this assists the park in meeting its goal of providing a wide range of recreational opportunities. Based on the established need, the purpose of this project is to reestablish road access on FSR 2610 at the washout site, and on the park's Dosewallips Road.

Those familiar with the project's previous NEPA analyses will note the change in project purpose from a more generic restoration of access to the more focused road access. The views of some who commented during the previous NEPA analyses and expressed a desire to change the land use of the area to non-motorized were considered in making this change. However after further review of the importance of road access to the Park's Dosewallips recreation facilities and the existing Forest Plan direction for this area it was determined that restoring road access is the more appropriate purpose.

Proposed Action

The Forest Service is proposing to address the project's purpose and need related to FSR 2610 by rebuilding the road through the washout area using a low-water crossing design. This narrow, single-lane road would be approximately 600 feet long, be at a lower grade (about 8 feet) than the existing road, and curve close to the washout bank. The road would be designed so that it would be overtopped by the river during moderately large flood events (Q20 or 20 year flood). This road would provide seasonal access for passenger cars, recreational vehicles, and vehicles pulling trailers. This proposed action also includes a proposal to amend the Forest Plan. The amendment would waive compliance with ACS (Aquatic Conservation Strategy) objectives at the watershed scale. The waiver of this requirement applies only to the Forest Service's part of the site-specific Dosewallips Road Washout Project.

The Park Service is proposing to address the purpose and need associated with the Dosewallips Road by reinforcing the road fill slope with rock filled gabions at the Dosewallips Falls area, and repairing the road surface to current road standards.

Possible Alternatives

The following preliminary alternatives were developed either during the previous NEPA analysis or in recent interdisciplinary team meetings. These alternatives are No Action, Rebuild the Road in Place, Single Land Bridge, Reroute (car, recreational vehicle, and trailer access) upslope with design to minimize construction costs, and Reroute (car, recreational vehicle, and trailer access) upslope with design to minimize resource impacts by reducing clearing limits. As in the case of the Proposed Action, the other action alternatives include proposals to amend the Forest Plan. These proposed amendments will be identified and analyzed in the EIS. Under all the action alternatives, the National Park Service proposes to reinforce the Dosewallips Road at the Dosewallips Falls site and repair the road to current road standards.

Lead and Cooperative Agencies

The U.S. Forest Service, Olympic National Forest, will be the lead agency in preparation and completion of the EIS. The National Park Service, Olympic National Park will be a cooperating agency in the completion of the EIS.

Responsible Official

Dale Horn, Forest Supervisor, Olympic National Forest, 1835 Black Lake Blvd, SW. Suite A, Olympia, WA, 98512 will be the Responsible Official for Forest Service decisions. The Responsible Official for the National Park Service is Jonathan B. Jarvis, Regional Director, Pacific West Region; subsequently, the implementing official for the National Park Service is Superintendent, Olympic National Park.

Nature of Decision To Be Made

How road access on FSR 2610 and the Park's Dosewallips Road will be restored, if at all; what if any Forest Plan amendments will be required; and what if any mitigation and monitoring requirements will apply.

Scoping Process

This Notice of Intent initiates the scoping process for the development of the environmental impact statement. Comments received during the scoping process for the previous National Environmental Policy Act (NEPA) environmental assessment analysis will be considered during this current analysis. Scoping will also include informational mailings and public meetings, which have not yet been scheduled. The Forest Service and Park Service will be seeking information, comments, and assistance from Federal, State, and local agencies, Tribes, and other individuals or organizations that may be interested in or affected by the proposal.

Preliminary Issues

Issues identified during the previous NEPA analysis are the basis of these preliminary issues. They are access, wilderness, social, soil productivity, aquatic and terrestrial habitat conditions, and riparian function. In addition, the National Park Service must make an impairment determination for any actions proposed within Olympic National Park in accordance with the NPS Organic Act and NPS Management Policies (NPS 2001c, Section 1,4,5); this mandate does not apply to National Forest System Lands.

Early Notice of Importance of Public Participation in Subsequent Environmental Review: A draft environmental impact statement will be prepared for comment. The comment period on the draft environmental impact statement will be 60 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 60 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Services Handbook 1909.15, Section 21).
Dated: August 3, 2005.
Virginia Grilley,
Acting Forest Supervisor, Olympic National Forest.

[FR Doc. 05-16004 Filed 8-11-05; 8:45 am]

BILLING CODE 3410-11-M